DEPARTMENT OF HOMELAND SECURITY

Coast Guard

33 CFR Part 117

[Docket No. USCG-2011-0762]

Drawbridge Operation Regulations; Hackensack River, Jersey City, NJ

AGENCY: Coast Guard, DHS.

ACTION: Notice of temporary deviation from regulations.

SUMMARY: The Commander, First Coast Guard District, has issued a temporary deviation from the regulation governing the operation of the Hack Freight Bridge, mile 3.1, across the Hackensack River, at Jersey City, New Jersey. The deviation is necessary to facilitate timber replacement at the bridge. This deviation will allow the bridge owner to require a one-hour advance notice for bridge openings between 9:30 a.m. and 2:30 p.m. on seven Mondays in September and October 2011.

DATES: This deviation is effective from September 12, 2011 through October 24, 2011.

ADDRESSES: Documents mentioned in this preamble as being available in the docket are part of docket USCG-2011-0762 and are available online at http://www.regulations.gov, inserting USCG-2011-0762 in the “Keyword” and then clicking “Search”. They are also available for inspection or copying at the Docket Management Facility (M-30), U.S. Department of Transportation, West Building Ground Floor, Room W12-140, 1200 New Jersey Avenue, SE., Washington, DC 20590, between 9 a.m. and 5 p.m., Monday through Friday, except Federal holidays.

FOR FURTHER INFORMATION CONTACT: If you have questions on this rule, call or e-mail Mr. Joe Arca, Project Officer, First Coast Guard District, telephone (212) 668-7165. If you have questions on viewing the docket, call Renee V. Wright, Program Manager, Docket Operations, telephone 202-366-9826.

SUPPLEMENTARY INFORMATION: The Hack Freight Bridge, across the Hackensack River at mile 3.1 has a vertical clearance in the closed position of 11 feet at mean high water and 16 feet at mean low water. The existing drawbridge operation regulations are listed at 33 CFR 117.723.

The waterway supports commercial vessels of various sizes.

The owner of the bridge, Conrail, requested a temporary deviation to facilitate timber replacement at the bridge and to allow sufficient time to clear the bridge of equipment in order to provide openings.

Under this temporary deviation the Hack Freight Bridge, mile 3.1, across the Hackensack River may require a one-hour advance notice for bridge openings between 9:30 a.m. and 2:30 p.m. on September 12, 19, and 26 and October 3, 10, 17, and 24, 2011. Mariner may provide the advance notice by calling either the number posted at the bridge or via marine radio VHF-FM Channel 13 or 16. Vessels that can pass under the bridge without a bridge opening may do so at all times.

In accordance with 33 CFR 117.35(e), the bridge must return to its regular operating schedule immediately at the end of the designated time period. This deviation from the operating regulations is authorized under 33 CFR 117.35.

Dated: August 2, 2011.
Gary Kassof,
Bridge Program Manager, First Coast Guard District.

[FR Doc. 2011-20500 Filed 8-11-11; 8:45 am]

BILLING CODE 9110-04-P